NATIONAL AERONAUTICS AND SPACE ADMINISTRATION

[Notice (00-019)]

Notice of Prospective Patent License

AGENCY: National Aeronautics and Space Administration.

ACTION: Notice of Prospective Patent License.

SUMMARY: NASA hereby gives notice that Intergraph Federal Systems, with headquarters in Huntsville, Alabama, has applied for an exclusive license within a field of use to practice the invention described and claimed in NASA Case No. MFS-31243-1 entitled “Video Image Stabilization and Registration (VISAR)” which has been assigned to the United States of America as represented by the Administrator of the National Aeronautics and Space Administration. The invention may be practiced by Intergraph Federal Systems only for the design, manufacture, and sale of software products that imbed the VISAR method; and such software products must only be capable of performing on company's proprietary hardware platform(s). Written objections to the prospective grant of a license should be sent to Mr. James J. McGroary, Patent Counsel/LS01, Marshall Space Flight Center, Huntsville, AL 35812.

DATES: Responses to this notice must be received by May 1, 2000.

FOR FURTHER INFORMATION CONTACT: Sammy Nabors, Technology Transfer Department/CD30, Marshall Space Flight Center, Huntsville, AL 35812, (256) 544-5226.

Dated: February 22, 2000.
Edward A. Frankle,
General Counsel.

[FR Doc. 00-4735 Filed 2-28-00; 8:45 am]

BILLING CODE 7510-01-P